DEPARTMENT OF VETERANS AFFAIRS

National Commission on VA Nursing; Notice of Meeting

The Department of Veterans Affairs gives notice under Public Law 92-463 (Federal Advisory Committee Act) that the National Commission on VA Nursing will conduct public hearings during the month of April 2003. The purpose of the hearings is to obtain oral and written testimony on current VA performance of nursing staff peer review process, promotion, recognition, respect and rewards. Information gained from this endeavor will be considered in forming conclusions and making recommendations for enhancing staff retention.

The purpose of the Commission is to provide advice and make recommendations to Congress and the Secretary of Veterans Affairs regarding legislative and organizational policy changes to enhance the recruitment and retention of nurses and other nursing personnel in VA. The Commission is required to submit to Congress and the Secretary of Veterans Affairs a report, not later than two years from May 8, 2002, on its findings and recommendations.

Nursing staff of the Department of Veterans Affairs from across the country will have an opportunity to give oral and written testimony. Hearings will begin at 9 a.m. and end at 5 p.m. Oral testimony will be limited to 10 minutes. An open forum will be available for 20 minutes during the morning and 20 minutes in the afternoon. Each person registered to speak during the open forum will have 3 minutes and will be given a first come first serve slot. All hearings will be conducted by a lead Commission member with other members in attendance.

Hearings are planned to accommodate staff from various networks. The dates and location are as follows:

April 3, 2003: Hotel Monaco, 333 St. Charles Ave., New Orleans, LA 70130. (504) 561-0010.

April 16, 2003: Radisson Plaza-Warwick Hotel, 1701 Locust Street, Philadelphia, PA 19103. (215) 735-6000.

April 24, 2003: Marriott Chicago Schaumburg, 50 N. Martingale Road, Chicago, IL 60173. (847) 384-2739.

April 30, 2003: Location to be determined, Los Angeles, CA.

Additional information and instructions for preparing and submitting written testimony is available on the Commission's Web site at http://www.va.gov/ncvan.

Members of the public may submit prepared statements for review by the Commission in advance of hearings, to Ms. Oyweda Moorer, Director of the National Commission on VA Nursing, at Department of Veterans Affairs (108N), 810 Vermont Avenue, NW., Washington, DC 20420. Any member of the public wishing to attend the hearing should contact Ms. Stephanie Williams, Program Analyst at (202) 273-4944.

Dated: March 14, 2003.
By direction of the Secretary.
E. Philip Riggin,
Committee Management Officer.

[FR Doc. 03-6791 Filed 3-20-03; 8:45 am]

BILLING CODE 8320-01-M